DEPARTMENT OF TRANSPORTATION

Federal Aviation Administration

Public Notice for Waiver of Aeronautical Land-Use Assurance; Rickenbacker International Airport, Columbus, OH

AGENCY: Federal Aviation Administration, DOT.

ACTION: Notice of intent of waiver with respect to land.

SUMMARY: The Federal Aviation Administration (FAA) is considering a proposal to change a portion of the airport from aeronautical use to non-aeronautical use and to authorize the release of 37.016 acres of airport property for the proposed development bulk warehouse/distribution facilities as a component of the Rickenbacker Global Logistics Park. The land was acquired by the Rickenbacker Port Authority through two Quitclaim Deeds dated March 30, 1984 from the Administrator of General Services for the United States of America and May 11, 1999 from the United States of America, acting by and through the Secretary of the Air Force. There are no impacts to the airport by allowing the airport to dispose of the property. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 30, 2009.

FOR FURTHER INFORMATION CONTACT: Stephanie Swann, Program Manager, Detroit Airports District Office, 11677 South Wayne Road, Suite 107, Romulus, Michigan 48174. Telephone Number: (734)-229-2945/FAX Number: (734)-229-2950. Documents reflecting this FAA action may be reviewed at this same location or at Rickenbacker International Airport, Columbus, Ohio.

SUPPLEMENTARY INFORMATION: Following is a legal description of the property situated in the State of Ohio, County of Pickaway, Townships of Harrison and Madison, lying in Section 13, Township 3, Range 22, and Section 18, Township 10, Range 21, Congress Lands, being part of the remainder of the original 2995.065 acre tract conveyed as Tract 1 to Columbus Municipal Airport Authority by deed of record in Official Record 514, Page 2561, (all references are to the records of the Recorder's Office, Pickaway County, Ohio) and being more particularly described as follows:

(Legal Description of Property)

Beginning, for reference, at a 1 inch Iron Pin capped “7159-ms consultant,” found at the intersection of the centerline of Rickenbacker Parkway East (140 feet wide), as in Plat Cabinet 2, Slide 127, with the line common to said Harrison Township and Madison Township, said common line being a westerly line of the remainder of said original 2995.065 acre tract;

Thence North 03°47′26″ East, a distance of 941.68 feet, (passing a ⅝ inch rebar capped “7159-ms consultants” found at 70.00 feet) across said Rickenbacker Parkway East, and said original 2995.065 acre tract, with said Township Line, to an iron pin set at the TRUE POINT OF BEGINNING;

Thence across said original 2995.065 acre tract, the following courses and distances:

North 86°24′00″ West, a distance of 538.97 feet, to an iron pin set;

South 47°50′49″ West, a distance of 31.68 feet, to an iron pin set;

With a curve to the left, having a central angle of 88°05′50″, a radius of 80.00 feet, an arc length of 123.01 feet, and a chord which bears North 86°12′06″ West, a chord distance of 111.24 feet, to an iron pin set;

North 40°15′01″ West, a distance of 30.93 feet, to an iron pin set;

North 86°24′00″ West, a distance of 1078.20 feet, to an iron pin set;

North 45°42′45″ East, a distance of 1808.11 feet, to an iron pin set;

South 44°30′28″ East, a distance of 1099.43 feet, to an iron pin set;

South 03°24′05″ West, a distance of 607.19 feet, to an iron pin set;

North 86°24′00″ West, a distance of 261.07 feet, to the TRUE POINT OF BEGINNING, containing 37.016 acres, more or less, of which 30.287 acres lie within Parcel Number Dl2-0-003-00-250-00, 2.441 acres lie within Parcel Number Dl2-0-003-00-253-0l, 3.797 acres lie within Parcel Number F16-0-003-00-001-0l and 0.491 acre lie within Parcel Number FiG-0-003-00-001-01.

Iron pins set, where indicated, are iron pipes, thirteen sixteenths (13/16) inch inside diameter, thirty (30) inches long with a plastic plug placed in the top bearing the initials EMHT INC.

The bearings herein are based on Ohio State Plane Coordinate System-South Zone as per NAD 83 (1986 adjustment), Control for bearings was North 21°27′15″ East for a portion of the centerline of Canal Road Between Franklin County Geodetic Survey Monument 5164 and 5165, as established by the Franklin County Engineering Department using Global Positioning System procedures and equipment. Issued in Romulus, Michigan on May 29, 2009.

Matthew J. Thys,
Manager, Detroit Airports District Office FAA, Great Lakes Region.

[FR Doc. E9-15319 Filed 6-29-09; 8:45 am]

BILLING CODE 4910-13-M